DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: U.S. Census—Age Search.

OMB Control Number: 0607-0117.

Form Number(s): BC-600, BC-600SP, BC-649(L), BC-658(L).

Type of Request: Revision of a currently approved collection.

Burden Hours: 628.

Number of Respondents: 2,799.

Average Hours per Response: 11 minutes.

Needs and Uses: The U.S. Census Bureau maintains the 1910-2010 Federal censuses for searching purposes. The purpose of the searching is to provide, upon request, transcripts of personal data from historical population census records. Information relating to age, place of birth, and citizenship is provided upon payment of the established fee to individuals for their use in qualifying for social security, old age benefits, retirement, court litigation, passports, insurance settlements, etc. The age and citizenship searching service is a self-supporting operation. Expenses incurred in providing census transcripts are covered by the fees paid by individuals requesting a search of the census records. The census records are confidential by an Act of Congress. The Census Bureau is prohibited by federal laws from disclosing any information contained in the records except upon written request from the person to whom the information pertains or to a legal representative.

Affected Public: Individuals or households.

Frequency: On occasion.

Respondent's Obligation: Required to obtain benefits.

Legal Authority: Title 13 U.S.C., Section 8a.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: May 1, 2013.
Glenna Mickelson,
Management Analyst, Office of the Chief Information Officer.

[FR Doc. 2013-10650 Filed 5-3-13; 8:45 am]

BILLING CODE 3510-07-P